DEPARTMENT OF COMMERCE

National Oceanic and Atmospheric Administration

RIN 0648-XA815

New England Fishery Management Council; Public Meeting

AGENCY: National Marine Fisheries Service (NMFS), National Oceanic and Atmospheric Administration (NOAA), Commerce.

ACTION: Notice; public meeting.

SUMMARY: The New England Fishery Management Council's (Council) VMS/Enforcement Committee and Advisory Panel with the United States Coast Guard will hold a Commercial Fishing Gear Stowage Workshop to consider actions affecting New England fisheries in the exclusive economic zone (EEZ).

DATES: The meeting will be held on Tuesday, November 29, 2011 at 10 a.m.

ADDRESSES: The meeting will be held at the Northeast Regional Fisheries Training Center, 5200 East Hospital Road, Buzzards Bay, MA 02542. The public must preregister for this workshop to facilitate entrance to this secure facility, see supplementary information for details.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: Preregistration: Should be emailed to Lt. Lyle Kessler, USCG Northeast Fisheries Training Center lyle.e.kessler@uscg.mil with “I plan to attend the gear stowage workshop” in the subject line. You will need to provide your first and last name, license number, State and plate number.

Agenda

The Committee and advisory panel will discuss research regulation changes that would decrease industry's safety concerns regarding gear stowage regulations, while maintaining enforcement's ability to enforce gear stowage regulations from the air.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This workshop is physically accessible to people with disabilities. Requests for sign language interpretation or other auxiliary aids should be directed to Paul J. Howard (see ADDRESSES) at least 5 days prior to the meeting date.

Authority: 16 U.S.C. 1801 et seq.

Dated: November 7, 2011.
Tracey L. Thompson,
Acting Director, Office of Sustainable Fisheries, National Marine Fisheries Service.

[FR Doc. 2011-29190 Filed 11-10-11; 8:45 am]

BILLING CODE 3510-22-P